DEPARTMENT OF AGRICULTURE

Farm Service Agency

President's Commission on Improving Economic Opportunity in Communities Dependent on Tobacco Production While Protecting Public Health

AGENCY: Farm Service Agency, USDA.

ACTION: Notice of preliminary report publication, request for comments, and notice of meeting.

SUMMARY: Executive Order No. 13168 published September 22, 2000, established the President's Commission on Improving Economic Opportunity in Communities Dependent on Tobacco Production While Protecting Public Health (Commission). This notice announces that the Commission's Preliminary Report has been published, that comments are requested on the Preliminary Report, and that a public meeting will be conducted by the Commission on February 21, 2001. The purpose of the meeting will be to review comments received on the Preliminary Report and recommendations from a tobacco working group and others in preparation for work on the Final Report.

DATES: The Commission will meet on February 21, 2001, from 9:00 a.m. to 4:00 p.m. at 2101 L Street, NW, Room 303A, Washington, DC. If special accommodations are required, please contact Doug Richardson, at the address specified above, by COB February14, 2001. All times are Eastern Standard Time. Comments on the Preliminary Report are requested through March 8, 2001. Comments may be submitted through the website at http://www.fsa.usda.gov/tobcom/, by fax, or by mail to the Commission at the contact information listed below. All meetings are open to the public; however, seating is limited and available on a first-come basis. Written comments may be filed with the Commission before or after the meeting at the contact information listed below. Copies of the Preliminary Report are available on the Commission's website at http://www.fsa.usda.gov/tobcom/ or by contacting the Commission's office at the contact information listed below.

FOR FURTHER INFORMATION CONTACT: Doug Richardson, Executive Director, Tobacco Commission, United States Department of Agriculture, (USDA), 1400 Independence Avenue, SW, STOP 0574, Washington, D.C., 20250-0574 or telephone (202) 418-4266 or toll free (866) 804-6698; FAX (202) 418-4270; Internet: doug_richardson@wdc.usda.gov.

SUPPLEMENTARY INFORMATION: The purpose of the Commission is to advise the President on changes occurring in the tobacco farming economy and recommend such measures as may be necessary to improve economic opportunity and development in communities that are dependent on tobacco production, while protecting consumers, particularly children, from hazards associated with smoking. The Commission collected and reviewed information about changes in the tobacco farming economy and Federal, State, and local initiatives intended to help tobacco growers, tobacco quota holders, and communities dependent on tobacco production pursue new economic opportunities. The Commission received public input through two public forums, its website, written comments and experts in tobacco farming, tobacco health issues, and economic development. After reviewing all input, the Commission issued its Preliminary Report regarding the economic situation facing tobacco producers and tobacco dependent communities. As set forth in the Report, the Commission has made no final recommendations but has established the following principles to guide its future deliberations:

(a) The Commission's recommendations should promote both the public health and the economic security and stability of tobacco farmers and their communities.

(b) Both short-term and long-term assistance are warranted for family tobacco farmers and their communities because of two factors: (1) the dramatic reduction in the purchase of U.S. tobacco leaf in recent years as the result of a complex set of trends that are both long term and global in nature, and (2) past Federal policies which have led many tobacco farmers to a heavy, if not total, reliance on this crop and way of life.

(c) The preservation of a tobacco program that controls supply, maintains price, moves quotas into the hands of growers, and incorporates health and safety protection is in the best interests of tobacco farmers and the public health.

(d) Solutions to the problems facing tobacco farmers should protect family farms, of which a significant number are small farms and owned by minorities.

(e) Policies should be adopted to ensure that any system of direct contracting between manufacturers and U.S. tobacco farmers does not undermine the protections for family farms and the public health that are provided by the tobacco program.

(f) Any tobacco program changes should focus on long-term solutions to the problems facing tobacco farmers, not short-term quick fixes.

(g) Tobacco farmers should be compensated for their quota at a fair and equitable value in order to address their current crisis and reduce their dependency on tobacco, an action which is in the best interests of the tobacco producing and the public health communities.

(h) Economic development assistance to tobacco producing communities is in the best interests of tobacco farmers, their communities, and the public health community. The Commission should consider the broadest range of economic actions to assist tobacco farmers, tobacco farm families, and their communities in promoting their prosperity, stability, and way of life during this period of transition, including:

(1) Locally driven assistance to tobacco producing communities for economic redevelopment and diversification,

(2) Support for the growth of supplemental crops (particularly those utilizing specialized tobacco farming skills) and livestock and the infrastructure necessary to produce, process, develop new markets, and bring these commodities to market; and

(3) Continued research into the development of non-harmful uses of tobacco products.

(i) The American tobacco farmer and the public should be protected against unfair foreign competition. For example, increased and expanded inspections for non-approved pesticides on imported tobacco are in the best interest of tobacco growers, their communities, and the health community.

(j) More needs to be done to prevent the harm caused by tobacco and this has been acknowledged by some tobacco product manufacturers. Comprehensive programs, such as those suggested in the August 2000 Report of the Surgeon General, to reduce tobacco use and the harm caused by tobacco should be adopted by both the public and private sector with a special emphasis on the problems facing tobacco growing states.

(k) Tobacco should be regulated. The U.S. Food and Drug Administration (FDA) should have authority to establish fair and equitable regulatory controls over the manufacture, sale, distribution, and labeling of tobacco products, comparable to regulations established for other products regulated by the FDA. Such regulations should have as their goal the protection of public health. The U.S. Department of Agriculture (USDA) should retain its authority to set safety standards governing tobacco farms.

(l) Measures to fund the recommendations of the Commission must be reliable, long-term, and consistent with the best interests of both tobacco farming communities and the public health.

In its December 5, 2000, meeting, the Commission established a tobacco working group comprised of tobacco producers, farm organizations, and health community representatives to study further changes needed in the tobacco program and to propose recommendations to be considered by the Commission.

The Preliminary Report requests public input on a number of issues. This notice solicits recommendations on these issues or on any other issues pertinent to the Commission's charge. Copies of the Preliminary Report are available on the Commission's website at http://www.fsa.usda.gov/tobcom/ or by contacting the Commission's office at the contact information listed above. The purpose of this meeting is to review public input received to date on the Preliminary Report and to review the report from the tobacco working group and others in order to begin preparation of the Final Report to the President.

Signed at Washington, D.C. on February 1, 2001.
James R. Little,
Acting Administrator, Farm Service Agency.

[FR Doc. 01-3120 Filed 2-2-01; 10:41 am]

BILLING CODE 3410-05-P